DEPARTMENT OF HEALTH AND HUMAN SERVICES

Administration for Children and Families

Submission for OMB Review; Comment Request

Title: TANF High Performance Bonus Report, Assessment of Medicaid and SCHIP Enrollment.

OMB No.: New Collection.

Description: Public Law 104-93 (PRWORA) established the Temporary Assistance for Needy Families (TANF) Program. It also included provisions for rewarding States that attain the highest levels of success in achieving the legislative goals of that program. The purpose of this collection is to obtain data upon which to base the computation for measuring State performance in meeting those goals by providing Medicaid and SCHIP work supports. DHHS will use the information to allocate the Medicaid/SCHIP portion of the bonus grant funds appropriated under the law and implemented by 45 CFR Part 270 published on August 30, 2000. States will not be required to submit this information unless they elect to compete in a Medicaid/SCHIP measure for the TANF High Performance Bonus awards in Federal fiscal years 2002 or 2003, or any subsequent Federal fiscal year for which Congress authorizes and appropriates bonus funds.

Respondents: Respondents may include any of the 50 States, the District of Columbia, and the U.S. Territories of Guam, Puerto Rico, and the Virgin Islands.

Annual Burden Estimates
Instrument | Number of respondents | Number of responses per respondent | Average burden hours per response | Total burden hours
TANF High Performance Bonus Report, Assessment of Medicaid and SCHIP Enrollment Among Individuals After leaving TANF Assistance | 54 | 4 | 20 | 4,320
Estimated Total Annual Burden Hours |  |  |  | 4,320

Additional Information: Copies of the proposed collection may be obtained by writing to The Administration for Children and Families, Office of Information Services, 370 L'Enfant Promenade, SW., Washington, DC 20447, Attn: ACF Reports Clearance Officer.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503, Attn: Desk Officer for ACF.

Dated: May 14, 2001.
Bob Sargis,
Reports Clearance Officer.

[FR Doc. 01-12495 Filed 5-17-01; 8:45 am]

BILLING CODE 4184-01-M